Proclamation 8853 of August 31, 2012

National Ovarian Cancer Awareness Month, 2012

By the President of the United States of America

A Proclamation

This year, thousands of American women will lose their lives to ovarian cancer. They are mothers and daughters, sisters and grandmothers, community members and cherished friends—and the absence they leave in our hearts will be deeply felt forever. During National Ovarian Cancer Awareness Month, we honor those we have lost, show our support for women who bravely carry on the fight, and take action to lessen the tragic toll ovarian cancer takes on families across our Nation.

Sadly, women are all too often diagnosed with this disease when it has already reached an advanced stage. Because early detection is the best defense against ovarian cancer, it is essential that women know the risk factors associated with the disease. Women who are middle-aged or older, who have a family history of ovarian or breast cancer, or who have had certain cancers in the past are at increased risk of developing ovarian cancer. Any woman who thinks she is at risk of ovarian cancer—or who experiences symptoms, including abdominal pain, pressure, or swelling—should talk with her health care provider. To learn more, visit www.Cancer.gov.

Ongoing progress in science and medicine is moving us forward in the battle against ovarian cancer, and my Administration remains committed to improving outcomes for women suffering from this devastating illness. Through agencies across the Federal Government, we are continuing to invest in research that paves the way for a new generation of tests and treatments. Through the Centers for Disease Control's Inside Knowledge campaign, we are working to raise awareness about the signs and symptoms of ovarian cancer. The Affordable Care Act already bans insurance companies from dropping a woman's coverage because she has ovarian cancer, and from placing lifetime or restrictive annual dollar limits on her coverage. Beginning in 2014, the law will also prohibit insurers from denying coverage or charging higher premiums because a woman has ovarian cancer—or any other pre-existing condition.

Ovarian cancer affects the lives of far too many women every year, and the tragedy it leaves in its wake reverberates in communities across our country. This month, we stand with all those who have known the pain of ovarian cancer, and we rededicate ourselves to the pursuit of new and better ways to prevent, detect, and treat this devastating disease.

NOW, THEREFORE, I, BARACK OBAMA, President of the United States of America, by virtue of the authority vested in me by the Constitution and the laws of the United States, do hereby proclaim September 2012 as National Ovarian Cancer Awareness Month. I call upon citizens, government agencies, organizations, health care providers, and research institutions to raise ovarian cancer awareness and continue helping Americans live longer, healthier lives. I also urge women across our country to talk to their health care providers and learn more about this disease.

IN WITNESS WHEREOF, I have hereunto set my hand this thirty-first day of August, in the year of our Lord two thousand twelve, and of the Independence of the United States of America the two hundred and thirty-seventh.

[FR Doc. 2012-22148

Filed 9-5-12; 11:15 am]

Billing code 3295-F2-P